DEPARTMENT OF HEALTH AND HUMAN SERVICES

Centers for Disease Control and Prevention

Public Health Service Act (PHS), Delegation of Authority

Notice is hereby given that I have delegated to the Director, Centers for Disease Control and Prevention, with authority to redelegate, the authorities vested in the Secretary of Health and Human Services under the following section under Title XXVI of the Public Health Service Act, and the Ryan White HIV/AIDS Treatment Extension Act of 2009 (Pub. L. 111-87), as amended hereafter, as it pertains to the functions assigned to the Centers for Disease Control and Prevention:

• Section 2695 (42 U.S.C. 300ff-131)—Infectious Diseases and Circumstances Relevant to Notification Requirements.

These authorities shall be exercised under the Department's policy on regulations and existing delegation of authority to approve and issue regulations.

This delegation became effective upon date of signature. In addition, I affirm and ratifiy any actions taken by the Director, Centers for Disease Control and Prevention, or his/her subordinates which involved the exercise of authorities delegated herein prior to the effective date of the delegation.

Kathleen Sebelius,
Secretary.

[FR Doc. 2010-17196 Filed 7-13-10; 8:45 am]

BILLING CODE 4160-18-P